DEPARTMENT OF AGRICULTURE

Forest Service

Revised Land and Resources Management Plans for Angeles, Cleveland, Los Padres, and San Bernardino National Forests, CA

AGENCY: Forest Service, USDA.

ACTION: Notice of Intent to prepare an environmental impact statement.

SUMMARY: The Department of Agriculture, Forest Service will prepare an Environmental Impact Statement (EIS) in conjunction with the revision of the Land and Resources Management Plans (hereinafter referred to as Forest Plans) for the Angeles, Cleveland, Los Padres, and San Bernardino National Forests.

This notice describes the specific portions of the current Forest Plans to be revised, environmental topics to be considered in the revision, estimate dates for filing the environmental impact statement, information concerning public participation, and the names and addresses of the agency officials who can provide additional information.

The Forest Service intends to update Forest Plans that will describe how the four southern California National Forests will be managed. This coordinated process will achieve consistent management direction in a consistent format across the four Forests. There is a great deal of commonality among the four Forests in terms of the ecosystem types and management challenges. One Environmental Impact Statement (EIS) will be prepared with one Record of Decision (ROD) signed by the responsible official, the Regional Forester, Brad Powell.

Background: In 1999, the Forest Supervisors determined that Forest Plan revisions were needed because significant changes had occurred in conditions and demands. For example, in 1989, there were seventeen species listed as threatened or endangered on the four southern California Forests. In 1999, there were fifty-nine listed species. At present, there are sixty-two listed species and one proposed for listing as threatened or endangered.

Between 1995 and 1999, the four southern California Forests initiated a large scale analysis of ongoing activities and their effects on species and habitat. In 1999 a comprehensive habitat conservation assessment, the Southern California Mountains and Foothills Assessment (SCFMA) was published. An interdisciplinary team, drawn from the four southern California National Forests and the Pacific Southwest Research Station, used the SCMFA and other forest documents to review how well the Forest Plans met the needs of threatened, endangered and sensitive (TES) species. The team's analysis, called the Province Forest Plan Monitoring and Evaluation Report (M&E Report), identified a number of areas where existing Forest Plans do not adequately protect TES species or provide direction necessary to sustain particular ecological communities. The M&E Report recommends revision of the Forest Plans and identifies some of the specific portions of the Forest Plans that need to be revised.

SUPPLEMENTARY INFORMATION:

Planning Regulations

A USDA Forest Service review of the November 9, 2000, planning rule identified concerns with the implementability of several provisions of the 2000 rule. There are also currently several lawsuits challenging the 2000 rule that may affect its implementation.

To address these problems, the Chief of the Forest Service started a process to revise the planning rule, with an anticipated schedule for the rule to be finalized in the spring of 2002. Meanwhile, an interim final rule was published in the Federal Register May 17, 2001. The May 17, 2001 interim rule allows Forest Plan revisions or amendments initiated prior to May 9, 2002, to be completed under either the 1982 rule or the 2000 rule. We will proceed under the 1982 rule.

Relationship to the Center for Biological Diversity Lawsuit Settlement

In September of 1998, the Southwest Center for Biological Diversity (now the Center for Biological Diversity) filed a lawsuit seeking to prohibit a wide range of management activities on the southern California National Forests until the Forest Plans were brought into compliance with the Endangered Species Act (ESA). A settlement agreement was signed by the Court on March 1, 2000. Under the terms of the settlement, a draft Environmental Impact Statement (EIS) to support revised Forest Plans is anticipated to be released in 2002.

DATES: Public collaboration regarding the Forest Plan revision analysis began in January 2001. Comments concerning the proposed action should be received in writing by December 31, 2001. Comments or suggestions regarding the development of alternatives should be received by February 15, 2002. Any comments received after February 15, 2002 will be accepted; but may not be reflected in the draft EIS. They may be reflected in the final EIS. The agency expects to file a Draft Environmental Impact Statement (DEIS) with the Environmental Protection Agency (EPA) and make it available for public, agency, and tribal government comment in the fall of 2002. A Final Environmental Impact Statement (FEIS) is currently expected in the fall of 2003.

ADDRESSES: Send written comments to Forest Planning Team, 10845 Rancho Bernardo Road, Suite 200, San Diego, CA 92127-2107 or electronically to socalforests@fs.fed.us.

FOR FURTHER INFORMATION CONTACT: Skippy Willis, Planning Team Public Affairs Officer, (858) 524-0140. Or call the Forest Plan update toll free recording at 1-866-252-8846 for information regarding time line, public workshops, and meetings and other pertinent information or the web site www.r5.fs.fed.us/sccs.

Responsible Official: Brad Powell, Regional Forester, Pacific Southwest Region. 1323 Club Drive, Vallejo, CA 94592.

Decision Made in a Forest Plan: Forest Plans describe the intended management of National Forests. The following types of decisions are made in Forest Plans:

1. Establishment of forest-wide objectives, with a description of the desired condition;

2. Establishment of forest-wide management standards;

3. Establishment of management areas and management prescriptions;

4. Establishment of lands suitable for the production of timber;

5. Establishment of monitoring and evaluation requirements; and

6. Recommendations to Congress of areas eligible for wilderness or wild and scenic river designation.

Forest Plans do not make any decisions regarding site-specific project proposals for implementing the plan. Project level environmental analysis would still need to be completed and the project must be consistent with the Forest Plan.

The Need for Change: This revision focuses on the most compelling needs for change in Forest Plan management direction. The USDA Forest Service expects this revision to include updated management direction for species and habitat protection; roads, trails, and access; recreational conflict resolution; special areas (Wild and Scenic Rivers, Research Natural Areas, and Special Interest Areas); roadless areas and potential wilderness recommendations; rangeland suitability; wildfire and prescribed fire management; suitable timber lands; recreation residences, and additional new direction regarding shooting; land ownership adjustments; communication sites; and possible other resource concerns identified through the scoping process.

Purpose and Need: The purpose and need of this proposed action is:

a. To establish new or revised management direction for all activities and uses of these forests based on the most current science and the findings of the Southern California Mountains and Foothills Assessment, the Province Forest wide Monitoring and Evaluation Report, and recent consultations with the Department of Interior Fish and Wildlife Service and Department of Commerce National Marine Fisheries Service;

b. To address conditions that have changed since original plans for these four Forest were approved (1986-89) and to provide consistent management direction (as appropriate) across the four Forests;

c. To meet the National Forest Management Act requirement for all Forests to revise their Forest Plans every 10-15 years;

d. To bring management direction up-to-date with increased population, increased demand for recreation, and corresponding resource and recreational use conflicts;

e. To more adequately protect plant and animal species and their habitat;

f. To more clearly emphasize and direct the use of prescribed fire to restore ecosystem function and integrate the National Fire Plan Direction; and

g. To incorporate other new scientific information that has been recently become available into current management direction and revise and update the monitoring plans.

Public Participation: In February 2000, the USDA Forest Service published the Southern California Mountains and Foothills Assessment, and sponsored a symposium for over 300 scientists and members of the public. Since then, the Forest Service has conducted numerous meetings with tribal governments, and those meetings are currently ongoing on each Forest.

From January through March, 2001, the USDA Forest Service held public workshops across southern California to develop a list of values and visions for the National Forests in southern California.

On March 15, 2001, public notice was given regarding beginning the Forest Plan revision process in the Los Angeles Times, San Diego Union Tribune, Sacramento Bee, and Santa Barbara New Press. On March 16, 2001, public notice was given regarding beginning the revision process in the San Bernardino Sun.

During the period of March 15, 2001-May 7, 2001, the agency made available for public review the following information: preliminary issues, the Southern California Mountains and Foothills Assessment, an evaluation of effectiveness of current Plans in complying with the Endangered Species Act, proposals for special areas such as key or core habitat areas, potential Wild and Scenic Rivers, watersheds in need of protection or restoration, lands classified as unsuitable for timber production, evaluations of inventoried roadless and unroaded areas, and estimated outcomes of continued management under current Forest Plans. Al of the information was available on the website through July 15, 2001. Comments received after May 7th were accepted.

Preliminary concerns surfaced during these initial, informal stages of public involvement can be summarized as follows: conflicts between different types of recreation, desire for continued or improved access, desire for additional special area designations, concerns regarding species and habitat protection and others.

The next phase of public involvement for this proposed Forest Plan revision will consist of workshops and public meetings to be announced during the scoping period for this proposal. Currently scheduled meetings are as follows:

Angeles National Forest

October 25, 2001, 6:00-9:00 pm, Glendora Public Library, 140 S. Glendora Avenue, Glendora, CA.

November 13, 2001, 6:00-9:00 pm, Pasadena Conference Center, 300 E. Green Street, Pasadena, CA.

November 19, 2001, 6:00-9:00 pm, Lake View Terrace Recreation Center, 11075 Foothill Boulevard, Lake View Terrace, CA.

November 27, 2001, 7:30-9:30 pm, Wrightwood Community Center, 1275 Highway 2, Wrightwood, CA.

December 4, 2001, 6:00-9:00 pm, California State University, Los Angeles, Student Union, 5154 State University Drive, Los Angeles, CA.

Cleveland National Forest

October 24, 2001, 6:00 pm, Alpine Community Center, 1830 Alpine Blvd., Alpine CA

November 3, 2001, 9:30 am, Nydegger Building, 31421 La Matanza, San Juan Capistrano, CA

November 7, 2001, 6:00 pm, East Valley Community Center, 2245 East Valley Parkway, Escondido, CA

November 10, 2001, 9:30 am, Ramona Community Center, 434 Aqua Lane, Ramona

November 17, 2001, 12:30 pm, Chula Vista Library, Literacy Team Center, 389 Orange Ave., Chula Vista, CA

Los Padres National Forest

October 25, 2001, 6:00-9:00 pm South County Regional Center, 800 West Branch Street, Arroyo Grande, CA.

October 30, 2001, 6:00-9:00 pm Goleta Valley Community Center, 5679 Hollister Avenue, Goleta, CA.

November 1, 2001, 6:00-9:00 pm Salinas Community Center, Santa Lucia Meeting, 940 N. Main Street, Salinas, CA.

November 7, 2001, 6:00-9:00 pm Rancho del Ray Conference Center, 655f Burnham Road, Oak View, CA.

November 8, 2001, 6:00-9:00 pm Community Hall, 300 Park Drive, Frazier Park, CA.

San Bernardino National Forest

October 30, 2001, 6:00-9:00 pm Houston Senior Community Center, 2929 Running Springs School Road, Running Springs, CA

November 1, 2001, 6:30-9:30 pm Bonnie Oehl Elementary School, 2525 Palm Avenue, Highland, CA.

November 8, 2001, 6:00-9:00 pm Garner Valley Commons, 61600 Devil's Ladder Road, Garner Valley, CA

Additional meetings may be scheduled and notices will be available through the local Forest website or Forest contact, the Forest Plan website, toll-free telephone number, or mailings. During the scoping period, the agency will seek information, comments, and assistance from Federal, State, and local agencies and other individuals or organizations interested in or affected by the proposed action. This input will be used to prepare the Draft Environmental Impact Statement. The scoping process includes:

1. Determining the scope and the potential significant issues to be analyzed in depth in the environmental impact statement.

2. Identifying and eliminating from detailed study the issues which are not significant or which have been covered by prior environmental review, narrowing the discussion of these issues in the statement to a brief presentation of why they will not have a significant effect on the human environment or providing a reference to their coverage elsewhere.

3. Exploring alternatives that address one or more significant issues while meeting the purpose and need for this proposal.

4. Verifying and updating scenery management data for use in the revision process.

Related Environment Analyses: Additional public environmental assessments and other environmental impact statements which are being or will be prepared that are related to but are not part of the scope of the impact statement include: the Oil and Gas EIS on the Los Padres National Forest, the joint Bureau of Land Management and Forest Service Santa Rosa/San Jacinto National Monument Management Plan EIS, the Bureau of Land Management Off-shore Monument EIS, and the National Oceanic and Atmospheric Agency Monteray Bay Marine Sanctuary EIS.

The Department of the Interior Fish and Wildlife Service, and the Department of Commerce National Marine Fisheries Service, will be invited to participate as cooperating agencies to evaluate potential impacts on threatened and endangered species habitat.

Alternatives: A range of alternatives for revising these four Forest Plans and providing programmatic direction over the next 10-15 years will be developed in response to significant issues identified during scoping. One of these alternatives is the purposed action, which is the current Forest Plan direction as modified by the recent consultations with the Fish and Wildlife Service and National Marine Fisheries Service and additional direction as recommended by an internal agency review and early public input regarding changes that are needed in the existing Forest Plans. The additional direction specifically addresses shooting, recreation residences, land adjustment plans, communication sites, and fire management. The details of this proposal can be viewed on the website listed above.

Release and Review of the EIS; The Forest Service anticipates filing a Draft EIS with the Environment Protection Agency (EPA) and making that DEIS available for comment in fall 2002. At that time, EPA will publish a notice of availability (NOA) for the DEIS in the Federal Register. The comment period on the DEIS will be 90 days from the date the EPA publishes the NOA in the Federal Register.

The Forest Service believes, at this early stage, it is important to give reviewers notice of several court rulings related to public participation in the environmental review process. First, reviewers of the DEIS must structure their participation in the environmental review of the proposal so that it is meaningful and alerts an agency to the reviewer's position and contentions; Vermont Yankee Nuclear Power Corp. v. NRDC. 435 U.S. 519, 533 (1978). Also, environmental objections that could be raised at the DEIS stage but are not raised until after completion of the Final EIS may be waived or dismissed by the courts; City of Angoon v. Hodel, 803 F. 2d 1016, 1022 (9th Cir. 1986) and Wisconsin Heritages, Inc. v. Harris, 490 F. Supp. 1334, 1338 (E.D. Wis. 1980). Because of these court rulings, it is very important that those interested in this proposed action participate throughout the process, so that substantive comments and objections are made available to the Forest Service at a time when it can meaningfully consider them and respond to them.

To assist the Forest Service in identifying and considering issues and concerns on the proposed action, comments should be as specific as possible. It is also helpful if comments refer to specific pages or chapters of the proposed action. Reviewers may wish to refer to the Council on Environmental Quality Regulations for implementing the procedural provisions of the National Environmental Policy Act at 40 CFR 1503.3 in addressing these points.

After the comment period ends on the DEIS, the agency will analyze, consider, and respond to comments in preparing the Final EIS. The FEIS is anticipated to be completed in the fall of 2003. The responsible official will consider the comments, responses, environmental consequences discussed in the FEIS, and applicable laws, regulations, and policies in making decisions regarding these revisions. The responsible official will document the decision for each of the four Forests and reasons for each decision in one Record of Decision.

The decision will be subject to appeal in accordance with 36 CFR 217.

Dated: September 14, 2001.
Bernard Weingardt,
Deputy Regional Forester.

[FR Doc. 01-23731 Filed 9-21-01; 8:45 am]

BILLING CODE 3410-11-M